FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 011548-004.

Title: Hanjin/Sinotrans Cross Space Charter & Sailing Agreement.

Parties: Hanjin Shipping Co., Ltd., China National Foreign Trade Transportation Corp.

Synopsis: The proposed modification changes the agreement's name; restates the geographic scope; specifies the number of the vessels to be provided by each party, their capacity, and initial rotation; changes slot allocations; and makes other conforming and administrative changes.

Agreement No.: 011648-003.

Title: APL/Crowley/Lykes/MLL Space Charter and Sailing Agreement.

Parties: American President Lines, Ltd., APL Co. PTE Ltd,. Crowley Liner Services, Inc., Crowley American Transport, Lykes Lines Limited, LLC, Mexican Lines Limited, Transportacion Maritima Grancolombiana, S.A. (“TMG”).

Synopsis: The proposed amendment deletes TMG as a party to the Agreement; revises the Agreement's termination and withdrawal provisions; and updates provisions related to vessels, slot allocations, and sub-chartering.

By Order of the Federal Maritime Commission.
Dated: May 26, 2000.
Theodore A. Zook,
Assistant Secretary.

[FR Doc. 00-13738 Filed 5-31-00; 8:45 am]

BILLING CODE 6730-01-P